DEPARTMENT OF TRANSPORTATION

National Highway Traffic Safety Administration

[U.S. DOT Docket No. NHTSA-2007-27971]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes one collection of information for which NHTSA intends to seek OMB approval.

DATES: Comments must be received on or before June 26, 2007.

ADDRESSES: Direct all written comments to U.S. Department of Transportation Dockets, 400 Seventh Street, SW., Plaza 401, Washington, DC 20590. Docket No. NHTSA-2007-27971.

FOR FURTHER INFORMATION CONTACT: Mr. Alan Block, Contracting Officer's Technical Representative, Office of Behavioral Safety Research (NTI-131), National Highway Traffic Safety Administration, 400 Seventh Street, SW., Room 5119, Washington, DC 20590. Mr. Block's phone number is 202-366-6401 and his e-mail address is Alan.Block@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

2008 National Survey of Drinking and Driving Attitudes and Behavior

Type of Request—New information collection requirement.

OMB Clearance Number—None.

Form Number—This collection of information uses no standard forms.

Requested Expiration Date of Approval—December 31, 2009.

Summary of the Collection of Information—NHTSA proposes to conduct a year 2008 National Survey of Drinking and Driving Attitudes and Behavior by telephone among a national probability sample of 6,000 adults (age 16 and older). Participation by respondents would be voluntary. Survey topics would include frequency of drinking and driving and of riding with a driver who has been drinking, ways to prevent drinking and driving, enforcement of drinking and driving laws, and understanding of Blood Alcohol Concentration (BAC) levels and legal limits.

In conducting the proposed survey, the interviewers would use computer-assisted telephone interviewing to reduce interview length and minimize recording errors. A Spanish-language translation and bilingual interviewers would be used to minimize language barriers to participation. The proposed survey would be anonymous; the survey would not collect any personal information that would allow anyone to identify respondents. Participant names would not be collected during the interview and the telephone number used to reach the respondent would be separated from the data record prior to its entry into the analytical database.

Description of the Need for the Information and Proposed Use of the Information—The National Highway Traffic Safety Administration's (NHTSA) mission is to save lives, prevent injuries, and reduce healthcare and other economic costs associated with motor vehicle crashes. The agency's goal is to reduce the rate of fatalities in high (0.08+) Blood Alcohol Concentration (BAC) crashes per 100 million vehicle miles traveled from 0.51 in 2003 to 0.48 in 2008. In order to plan and evaluate programs intended to reduce alcohol-impaired driving, NHTSA needs to periodically update its knowledge and understanding of the public's attitudes and behaviors with respect to drinking and driving. NHTSA began measuring the driving age public's attitudes and behaviors regarding drinking and driving in 1991. The proposed study, to be administered in the 1st quarter of 2008, and the eighth in this series of surveys, will collect data on topics included in the first seven studies (and some additional topics), including: frequency of drinking and driving and of riding with a driver who has been drinking, ways to prevent drinking and driving, enforcement of drinking and driving laws, and understanding of BAC levels and legal limits.

The findings from this proposed collection of information will assist NHTSA in addressing the problem of alcohol-impaired driving and in formulating programs and recommendations to Congress. NHTSA will use the findings to help focus current programs and activities to achieve the greatest benefit, to develop new programs to decrease the likelihood of drinking and driving, and to provide informational support to States, localities, and law enforcement agencies that will aid them in their efforts to reduce drinking and driving crashes and injuries.

Description of the Likely Respondents (Including Estimated Number, and Proposed Frequency of Response to the Collection of Information)—Under this proposed effort, the Contractor would conduct a survey pretest and final survey administration. A total of 18 telephone pretest interviews averaging 20 minutes in length would be administered to test the computer programming of the questionnaire, and to determine if any last adjustments to the questionnaire are needed. Following any revisions carried out as a result of the pretest, the Contractor would conduct telephone interviews averaging approximately 20 minutes in length with 6,000 randomly selected members of the general public age 16 and older in telephone households. For non-drinkers and non-drivers the interview will average below 20 minutes, while for drinker-drivers it will average slightly over 20 minutes. The respondent sample would be selected from all 50 States plus the District of Columbia. Interviews would be conducted with persons at residential phone numbers selected through random digit dialing. Businesses are ineligible for the sample and would not be interviewed. No more than one respondent would be selected per household. Each member of the sample would complete one interview.

Estimate of the Total Annual Reporting and Record Keeping Burden Resulting from the Collection of Information—NHTSA estimates that the pretest interviews would require an average of 20 minutes apiece or a total of 6 hours for the 18 respondents. Each respondent in the final survey sample would require an average of 20 minutes to complete the telephone interview or a total of 2,000 hours for the 6,000 respondents. Thus, the number of estimated reporting burden hours a year on the general public would be 2,006 for the proposed survey (6 for the pretest, and 2000 for the final survey administration). The respondents would not incur any reporting cost from the information collection. The respondents also would not incur any record keeping burden or record keeping cost from the information collection.

Authority: 44 U.S.C. Section 3506(c)(2)(A).

Marilena Amoni,
Associate Administrator, Research and Program Development.

[FR Doc. E7-8072 Filed 4-26-07; 8:45 am]

BILLING CODE 4910-59-P